SECURITIES AND EXCHANGE COMMISSION

[Release No. 34-54319A; File No. SR-NASD-2006-060]

Self-Regulatory Organizations; National Association of Securities Dealers, Inc.; Notice of Filing of Proposed Rule Change To Require Members To File Regulatory Notices With NASD Electronically

September 18, 2006.

Correction:

In FR Document No. E6-13812, beginning on page 48959 for Tuesday August 22, 2006, the first sentence under “Statutory Basis” in column 1 should read as follows:

NASD believes that the proposed rule change is consistent with the provisions of Section 15A(b)(6) of the Act,¹ which requires, among other things, that NASD rules must be designed to prevent fraudulent and manipulative acts and practices, to promote just and equitable principles of trade, and, in general, to protect investors and the public interest, in that the proposed rule change will permit the expeditious filing of specified required regulatory notices and other required submissions by requiring firms to file such reports and documents with NASD electronically.

¹ 15 U.S.C. 78o-3(b)(6).

For the Commission, by the Division of Market Regulation, pursuant to delegated authority.²
² 17 CFR 200.30-3(a)(12).
Jill M. Peterson,
Assistant Secretary.

[FR Doc. 06-8040 Filed 9-21-06; 8:45 am]

BILLING CODE 8010-01-M